DEPARTMENT OF VETERANS AFFAIRS

Advisory Committee on Tribal and Indian Affairs, Notice of Meeting

The Department of Veterans Affairs (VA) gives notice under the Federal Advisory Committee Act, 5 U.S.C. ch. 10., that the Advisory Committee on Tribal and Indian Affairs will meet on September 24 through September 26, 2024 at the VA Central Office, 811 Vermont Ave NW, Washington, DC 20571. The meeting sessions will begin, and end as follows:

Dates | Times
September 24, 2024 | 9:00 a.m. to 5:00 p.m.—Eastern Daylight Time (EDT).
September 25, 2024 | 9:00 a.m. to 5:00 p.m. EDT.
September 26, 2024 | 9:00 a.m. to 12:00 p.m. EDT.

The meeting sessions will be open to the public.

The purpose of the Committee is to advise the Secretary on all matters relating to Indian tribes, tribal organizations, Native Hawaiian organizations, and Native American Veterans. This includes advising the Secretary on the administration of healthcare services and benefits to American Indian/Alaska Natives (AI/AN) and Native Hawaiian Veterans; thereby assessing those needs and whether VA is meeting them.

On September 24, 2024, the agenda will include opening remarks from the Committee Chair, Executive Sponsor, and other VA officials. There will be remarks by the VA Deputy Secretary Tanya Bradsher, updates from the VA Office of Tribal Government Relations, VA Office of Tribal Health, VA Office of Behavioral Health/Suicide Prevention, panel discussions with Veteran advocates and Federal partners, and an update from the VA Tribal Representation Expansion Project. To join virtually on Microsoft Teams: https://teams.microsoft.com/l/meetup-join/19%3ameeting_MTYyODhlZDAtNjZkYS00ODYxLTg1NDEtMjE3ZmMzNjg4ZmM1%40thread.v2/0?context=%7b%22Tid%22%3a%22e95f1b23-abaf-45ee-821d-b7ab251ab3bf%22%2c%22Oid%22%3a%227ba1f948-b5ea-400d-ac6e-5d8de1560180%22%7d. Meeting ID: 217 417 253 380. Passcode: 4vYiSX.

On September 25, 2024, the agenda will include updates from the VA Native American Direct Loan/Specially Adapted Housing programs, VA Homelessness Program, VA Office of Rural Health, VA Office of Academic Affiliation, VA Reimbursement Agreement program, VA National Cemetery Advisory Committee, Veterans Benefits Administration/Outreach, Transition, and Economic Development/PACT ACT, and the VA Office of Connected Care. There is a planned site visit to the Eisenhower Executive Office Building in the afternoon. To join virtually on Microsoft Teams: https://teams.microsoft.com/l/meetup-join/19%3ameeting_NmM1MTZjZDMtMDI2YS00ZGRjLWJhYjQtNzEyNjgzMzYyMzk4%40thread.v2/0?context=%7b%22Tid%22%3a%22e95f1b23-abaf-45ee-821d-b7ab251ab3bf%22%2c%22Oid%22%3a%227ba1f948-b5ea-400d-ac6e-5d8de1560180%22%7d. Meeting ID: 236 281 847 48. Passcode: 7ufBwA.

On September 26, 2024, the agenda will include the health and benefits subcommittees to propose recommendations, followed by public comment from 11:00 a.m. to 12:00 p.m. To Join virtually on Microsoft Teams: https://teams.microsoft.com/l/meetup-join/19%3ameeting_MThhZTU4NzYtZGI1Mi00YjlkLTkyOTQtN2JmZDY3MDEzMDIw%40thread.v2/0?context=%7b%22Tid%22%3a%22e95f1b23-abaf-45ee-821d-b7ab251ab3bf%22%2c%22Oid%22%3a%227ba1f948-b5ea-400d-ac6e-5d8de1560180%22%7d. Meeting ID: 232 612 197 60. Passcode: N8Rd5r.

The meeting sessions will be recorded. Individuals who wish to speak during the public comment session are invited to submit a 1-2-page summary of their comments no later than September 17, 2024, for inclusion in the official meeting record. Members of the public may also submit written statements for the Committee's review to Veronica Duncan, at Veronica.Duncan@va.gov. Any member of the public seeking additional information should contact Veronica Duncan at the email address above or by calling 202-905-7294.

Dated: August 27, 2024.
Jelessa M. Burney,
Federal Advisory Committee Management Officer.

[FR Doc. 2024-19570 Filed 8-29-24; 8:45 am]

BILLING CODE 8320-01-P